NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before November 13, 2008. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1228.24(b)(3).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Commerce, National Oceanic and Atmospheric Administration (N1-370-08-3, 2 items, 2 temporary items). Limited access privilege fishing permits and dealer, buyer, processor or receiver permits for persons receiving or processing fish harvested under a limited access system or a fishery management plan.

2. Department of Education, Agency-wide (N1-441-08-16, 4 items, 3 temporary items). Records related to policy decisions and program operational procedures, including background materials, working papers, drafts, unpublished guidance, and duplicates of policy documents. Proposed for permanent retention are major policy decisions and program procedures originated within each Principal Office and Regional Office providing the mandates.

3. Department of Education, Agency-wide (N1-441-08-17, 2 items, 2 temporary items). Records documenting the ongoing management of programs, and routine projects within the Department. Included are such records as correspondence and memoranda, internal and external training materials, staff meeting records such as agendas and attendance lists, background papers, meeting minutes, and project control files showing assignments and progress.

4. Department of Education, Office of General Counsel (N1-441-08-20, 2 items, 1 temporary item). Legislative working papers such as informal comments from OMB and other agencies and internal Department drafts and comments on draft legislative materials. Proposed for permanent retention are formal legislative documents.

5. Department of Education, Agency-wide (N1-441-08-21, 4 items, 3 temporary items). Case files relating to non-landmark litigation cases and attorney working files. Proposed for permanent retention are litigation case files for landmark cases, including agreed final judgments and compromise settlement agreements.

6. Department of Homeland Security, U.S. Citizenship and Immigration Services (N1-566-08-16, 1 item, 1 temporary item). Master file associated with an agency-wide training resource, career development, and training history database management system.

7. Department of Homeland Security, U.S. Citizenship and Immigration Services (N1-566-08-18, 1 item, 1 temporary item). Master file associated with an electronic information system used to record, track, and manage immigration inquiries, investigative referrals, law enforcement requests, and case determinations involving criminal activity, public safety, and national security concerns. Records relating to an individual's A-File will be transferred to the A-File. The A-files are proposed as permanent in a separate schedule.

8. Department of Housing and Urban Development, Assistant Secretary for Housing (N1-207-08-2, 6 items, 4 temporary items). Records of the Office of Evaluation, including policy-related records, reference files, correspondence, and reports. Proposed for permanent retention are major studies and statistical reports.

9. Department of the Interior, Bureau of Reclamation (N1-115-08-10, 1 item, 1 temporary item). Master files of the Bureau of Reclamation Hydrological and Meteorological (HydroMet) Information System (HMIS). The HMIS system is used to collect, distribute, and process hydrological and meteorological data for use in operation of reclamation water projects.

10. Department of the Interior, Bureau of Reclamation (N1-115-08-11, 3 items, 3 temporary items). Master files and outputs from the Central Valley Operations Decision Support System, an electronic information system used to manage water and power operations data in the Central Valley Project in California and power operations in the Mid-Pacific Region.

11. Department of the Interior, Bureau of Reclamation (N1-115-08-12, 1 item, 1 temporary item). Master files of the agency's Water Management Information System, which provides a portfolio of decision-making tools used in the acquisition, processing, and long-term storage of water data.

12. Department of the Interior, U.S. Geological Survey (N1-57-05-2, 26 items, 15 temporary items). Records of the Geography Discipline. Included are facilitative records relating to land remote sensing and geography science. Proposed for permanent retention are such records as significant land remote sensing records, analysis and monitoring program records, committee records and related indexes. The proposed disposition instructions are limited to paper records for some items and to electronic records for other items.

13. Department of Justice, Bureau of Alcohol, Tobacco, Firearms and Explosives (N1-436-07-1, 1 item, 1 temporary item). Master file for a correspondence tracking and management system used to assign, prepare and track correspondence received and sent by the Office of the Director. The proposed disposition instructions are limited to electronic records.

14. Department of Justice, Federal Bureau of Investigation (N1-65-07-7, 78 items, 70 temporary items). Administrative records relating to routine housekeeping activities not covered by the General Records Schedules (GRS) or that are required for longer retention periods than authorized by the GRS. Records relate to such matters as procurement, payrolling, budget and finance, and mail management. Proposed for permanent retention are records related to high-level planning, organizational structure, and management of the FBI.

15. Department of Justice, Federal Bureau of Investigation (N1-65-08-22, 9 items, 9 temporary items). Human resources records, including files of the supervisory special agent programs, position management files, and special agent insurance programs.

16. Department of Transportation, Federal Railroad Administration (N1-399-07-11, 3 items, 2 temporary items). Program management records of the Deputy Administrator, Administrator's executive staff, Associate Administrators and other senior agency officials and staff. Proposed for permanent retention are the program records of the Administrator.

17. Department of the Treasury, Internal Revenue Service (N1-58-08-16, 20 items, 20 temporary items). Records relating to occupational safety and environmental matters, including asbestos monitoring, environmental testing, accident investigations, and handling of hazardous materials.

18. National Archives and Records Administration, Office of Records Services—Washington, DC (N1-64-08-11, 2 items, 2 temporary items). Master Location Register database used to identify locations and descriptive information for records stored by the National Archives. Also included are reports, statistics, and operating and technical manuals.

19. National Archives and Records Administration, Office of Information Services (N1-64-08-12, 28 items, 28 temporary items). Information services and technology records relating to policy, planning, system development, infrastructure operations/maintenance, security, data and forms management, and OMB information collection.

20. United States Courts of Appeals (N1-276-08-1, 3 items, 1 temporary item). This schedule pertains to appellate court case files and submissions created after January 2007. Included are electronic copies of records relating to predominantly paper case files where the paper files serve as the recordkeeping copy. Proposed for permanent retention are paper case files and case files maintained in an electronic case file system. The proposed disposition instructions are limited to the specified media.

Dated: October 8, 2008.
Michael J. Kurtz,
Assistant Archivist for Records Services—Washington, DC.

[FR Doc. E8-24343 Filed 10-10-08; 8:45 am]

BILLING CODE 7515-01-P